NATIONAL SCIENCE FOUNDATION

Advisory Committee for Education and Human Resources; Notice of Meeting

In accordance with the Federal Advisory Committee Act (Pub. L. 92-463, as amended), the National Science Foundation (NSF) announces the following meeting:

Name and Committee Code: Advisory Committee for Education and Human Resources (#1119) (Hybrid Meeting).

Date and Time: Wednesday, May 31, 2023; 9:30 a.m.-5 p.m. (EDT); Thursday, June 1, 2023; 9:30 a.m.-4 p.m. (EDT).

Place: National Science Foundation, 2415 Eisenhower Avenue, Alexandria, VA 22314 (Hybrid).

All visitors may attend the meeting virtually. To attend the virtual meeting, all visitors must register at least 48 hours prior to the meeting at https://nsf.zoomgov.com/webinar/register/WN_KwsbCXmiQuy0QZ1pPS2jjg.

The final meeting agenda will be posted on the EHR Advisory Committee website at: https://www.nsf.gov/ehr/advisory.jsp.

Type of Meeting: Open.

Contact Person: Mr. Keaven M. Stevenson, National Science Foundation, 2415 Eisenhower Avenue, Room C11001, Alexandria, VA 22314; phone: (703) 292-8600/email: (kstevens@nsf.gov).

Summary of Minutes: Minutes and meeting materials will be available on the EHR Advisory Committee website at http://www.nsf.gov/ehr/advisory.jsp or can be obtained from Dr. Bonnie A. Green, National Science Foundation, 2415 Eisenhower Avenue, Room C11000, Alexandria, VA 22314; phone (703) 292-8600/email (bongreen@nsf.gov).

Purpose of Meeting: To provide advice with respect to the Foundation's science, technology, engineering, and mathematics (STEM) education and human resources programming.

Agenda: Meeting Theme: Expanding Opportunities in STEM: An American Imperative.

Wednesday, May 31, 2023, 9:30-5 p.m. (EDT)

• Welcoming Remarks: EHR Advisory Committee Chair and Assistant Director

• Session 1: Expanding Understanding of Knowledge Capital: Breakout Sessions

• Session 2: Expanding Partnerships: Directorate for STEM Education (EDU) and Directorate for Technology, Innovation, and Partnership Discussion

• Session 3: Expanding Outreach and Engagement: Centers and Hubs

• Session 4: Committee of Visitors Reports for both the Division of Undergraduate Education and Division of Graduate Education

• Closing Remarks: EHR Advisory Committee Chair and Assistant Director

Thursday, June 1, 2023, 9:30 a.m.-4 p.m. (EDT)

• Session 5: Expanding Understanding of Knowledge Capital: AC Comments and Recommendations

• Session 6: Expanding Outreach and Engagement: Targeted Initiative Breakout Sessions

• Session 7: Expanding Partnerships: Direct Partnership Guidance

• Session 8: Advisory Committee for Environmental Research and Education Discussion

• Discussion: EHR Advisory Committee along with NSF Chief Operating Officer

• Closing Remarks: EHR Advisory Committee Chair and Assistant Director

Dated: April 18, 2023.
Crystal Robinson,
Committee Management Officer.

[FR Doc. 2023-08486 Filed 4-20-23; 8:45 am]

BILLING CODE 7555-01-P